DEPARTMENT OF THE TREASURY

Alcohol and Tobacco Tax and Trade Bureau

27 CFR Part 9

[Notice No. 72; Re: Notice No. 71]

RIN: 1513-AB27

Proposed Establishment of the Paso Robles Westside Viticultural Area (2006R-087P); Comment Period Extension

AGENCY: Alcohol and Tobacco Tax and Trade Bureau, Treasury.

ACTION: Notice of proposed rulemaking; extension of comment period.

SUMMARY: In response to a request from a viticulture industry group, the Alcohol and Tobacco Tax and Trade Bureau extends the comment period for Notice No. 71, Proposed Establishment of the Paso Robles Westside Viticultural Area, a notice of proposed rulemaking published in the Federal Register on January 24, 2007, for an additional 30 days.

DATES: Written comments on Notice No. 71 must now be received on or before April 24, 2007.

ADDRESSES: You may send comments to any of the following addresses:

• Director, Regulations and Rulings Division, Alcohol and Tobacco Tax and Trade Bureau, Attn: Notice No. 71, P.O. Box 14412, Washington, DC 20044-4412.

• 202-927-8525 (facsimile).

• nprm@ttb.gov (e-mail).

• http://www.ttb.gov/wine/wine_rulemaking.shtml. An online comment form is posted with this notice on our Web site.

• http://www.regulations.gov (Federal e-rulemaking portal; follow instructions for submitting comments).

You may view copies of this notice, the petition, the appropriate maps, and any comments we receive about this proposal by appointment at the TTB Information Resource Center, 1310 G Street, NW., Washington, DC 20220. To make an appointment, call 202-927-2400. You may also access copies of the notice and comments online at http://www.ttb.gov/wine/wine_rulemaking.shtml.

See the Public Participation section of this notice for specific instructions and requirements for submitting comments, and for information on how to request a public hearing.

FOR FURTHER INFORMATION CONTACT: N. A. Sutton, Regulations and Rulings Division, Alcohol and Tobacco Tax and Trade Bureau, 925 Lakeville St., No. 158, Petaluma, CA 94952; telephone 415-271-1254.

SUPPLEMENTARY INFORMATION: TTB received a petition, filed on behalf of 21 grape growers and vintners, proposing the establishment of the “Paso Robles Westside” American viticultural area in northern San Luis Obispo County, California. The proposed 179,622-acre Paso Robles Westside viticultural area is entirely within the existing Paso Robles viticultural area (27 CFR 9.84), which, in turn, is entirely within the existing Central Coast viticultural area (27 CFR 9.75). The proposed Paso Robles Westside viticultural area consists of that portion of the existing Paso Robles viticultural area west of the Salinas River.

In Notice No. 71, published in the Federal Register (72 FR 3088) on Wednesday, January 24, 2007, we described the petitioners' rationale for the proposed establishment of the Paso Robles Westside viticultural area and requested comments on the proposal on or before March 26, 2007.

On February 16, 2007, we received a request from the Paso Robles AVA Committee, representing 59 growers and vintners within the existing Paso Robles viticultural area, requesting a 30-day extension of the comment period for Notice No. 71. The request explained that the committee will be unable to meet before its next scheduled meeting on March 9, 2007, and that several of its experts will be out of the country until that time. The committee stated that it will have insufficient time after its next meeting to assemble and review its own evidence regarding the proposed Paso Robles Westside viticultural area, and to submit detailed comments on Notice No. 71.

In response to this request, we extend the comment period for Notice No. 71 an additional 30 days. Therefore, comments on Notice No. 71 are now due on or before April 24, 2007.

Drafting Information

Michael Hoover of the Regulations and Rulings Division drafted this notice.

List of Subjects in 27 CFR Part 9

Wine.

Authority and Issuance

This notice is issued under the authority of 27 U.S.C. 205.

Signed: March 9, 2007.
John J. Manfreda,
Administrator.

[FR Doc. E7-5353 Filed 3-22-07; 8:45 am]

BILLING CODE 4810-31-P